COMMITTEE FOR PURCHASE FROM PEOPLE WHO ARE BLIND OR SEVERELY DISABLED

Procurement List; Proposed Additions and Deletions

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a product previously furnished by such agency.

DATES: Comments must be received on or before: 8/22/2011.

ADDRESSES: Committee for Purchase From People Who Are Blind or Severely Disabled, Jefferson Plaza 2, Suite 10800, 1421 Jefferson Davis Highway, Arlington, VA 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: AF340—Turtleneck, USAF, Unisex, Dark Navy Blue, Numerous Sizes

NSN: AF390—Coveralls/Jumpsuit, USAF, Unisex, Lightweight, Dark Navy, Blue, Numerous Sizes

NSN: AF420—Nameplate, Class A, USAF, Metal, Polished Nickel Finish with black Lettering

NSN: AF412B—Belt, Class B/Primary Duty, USAF, Unisex, Black Leather, Numerous Sizes

NSN: AF9470—Badge, USAF, “TRAINING SUPERVISOR”, Metallic Polished Nickel Finish, 1″x7/8″

NSN: AF9460—Badge, USAF, “SHIFT SUPERVISOR”, Metallic Polished Nickel Finish, 1″x7/8″

NSN: AF9450—Badge, USAF, “ASSISTANT TO THE OPERATIONS OFFICER”, Metallic Polished Nickel Finish, 1″x7/8″

NSN: AF9440—Badge, USAF, “DEPUTY CHIEF”, Metallic Polished Nickel Finish, 1″x7/8″

NSN: AF9490—Necktie, USAF, Unisex, Dark Navy Blue

NSN: AF9483—Insignia, USAF, Collar Chevrons Officer (3 Stripes), USAF Metallic Silver or Polished Nickel Finish

NSN: AF9412—Badge, “Police”, USAF, Nickel Finish, 3″x2″

NSN: AF9411—Patch, USAF, Longevity Stripe, Blue and Gold

NSN: AF330—Jacket, USAF, Waist Length, Unisex, Dark Navy Blue, Numerous Sizes

NSN: AF320—Pants, USAF, Unisex, Rain, Dark Navy Blue, Numerous Sizes

NSN: AF310—Jacket, USAF, ¾ Length, Unisex, Dark Navy Blue, Numerous Sizes

NSN: AF230—Trousers, Class B/Utility, USAF, Unisex, Dark Navy Blue, Numerous Sizes

NSN: AF220—Shirt, Class B/Utility, USAF, Short Sleeve, Unsex, Dark Navy Blue, Numerous Sizes

NSN: AF210—Shirt, Class B/Utility, USAF, Long Sleeve, Unisex, Dark Navy Blue, Numerous Sizes

NSN: AF150—Hat, Formal, USAF, Unisex, Dark Navy Blue, S;M;L;XL

NSN: AF140—Ballcap, Standard, USAF, Unisex, Dark Navy Blue, M/L;L/XL

NSN: AF131—Pants, Class A/Primary Duty, USAF, Women's, Flex Waist, Dark Navy Blue, Numerous Sizes

NSN: AF130—Pants, Class A/Primary Duty, USAF, Men's, Flex Waist, Dark Navy Blue, Numerous Sizes

NSN: AF121—Shirt, Class A/Primary Duty, USAF, Women's Short Sleeve, Dark Navy Blue, Numerous Sizes

NSN: AF120—Shirt, Class A/Primary Duty, USAF, Men's, Short Sleeve, Dark Navy Blue, Numerous Sizes

NSN: AF111—Shirt, Class A/Primary Duty, USAF, Women's, Long Sleeve, Dark Navy Blue, Numerous Sizes

NSN: AF110—Shirt, Class A/Primary Duty, USAF, Men's, Long Sleeve, Dark Navy Blue, Numerous Sizes

NSN: AF9415—Hat Badge, Formal, USAF, Nickel Finish

NSN: AF9414G—Patch, “Guard, USAF, Half Size, 3″x2″

NSN: AF9410P—Patch, “Police”, USAF, Half Size, 3″x2″

NSN: AF9413G—Patch, “Guard”, USAF, Full Size, 4″x5/8″

NSN: AF9410—Necktie Bar Clasp, USAF, Metal, Polished Nickel Finish

NSN: AF9482—Insignia, USAF, Collar Chevrons Officer (2 stripes), USAF, Metallic Silver or Polished Nickel Finish

NSN: AF430—Nameplate, Class B, USAF, Cloth, Dark Navy Blue with Silver/Gray Thread Lettering

NSN: AF411A—Belt, Class A/Primary Duty, USAF, Unisex, Black Leather, Numerous Sizes

NSN: AF380—Over Pants, USAF, Unisex, Cold Weather, Dark Navy Blue, Numerous Sizes

NSN: AF350—Fleece Liner, USAF, Unisex, Dark Navy Blue, Liner for Jacket, Numerous Sizes

NSN: AF360—Cap USAF, Unisex, Weather Watch, Dark Navy Blue, One Size Fits All

NSN: AF370—Parka, USAF, Unisex, Cold Weather, Dark Navy Blue, Numerous Sizes

NSN: AF9413P—Patch, “Police”, USAF, Full Size, 4″x5/8″

NPA: Human Technologies Corporation, Utica, NY.

Contracting Activity: Dept.of the Air Force, FA8003 ESG DD, Wright Patterson AFB, OH.

Coverage: C-List for 100% of the requirement of the U.S. Air Force as aggregated by the Air Force Material Command, Wright Patterson AFB, OH.

Eyeglasses

6650-00-NIB-0009—Single Vision, Plastic, Clear

6650-00-NIB-0010—Flat Top 28, Bifocal, Plastic, Clear

6650-00-NIB-0011—Flat Top 35, Bifocal, Plastic, Clear

6650-00-NIB-0012—Round 25 and 28 Bifocal, Plastic, Clear

6650-00-NIB-0013—Flat Top 7x28 Trifocal, Plastic, Clear

6650-00-NIB-0014—Flat Top 8x35 Trifocal, Plastic, Clear

6650-00-NIB-0015—Progressives (VIP, Adaptar, Freedom, Image), Plastic

6650-00-NIB-0016—SV aspheric lenticular, Plastic, Clear

6650-00-NIB-0017—FT or round aspheric lenticular, Plastic, Clear

6650-00-NIB-0018—Executive Bifocal, Plastic, Clear

6650-00-NIB-0019—Single Vision, Glass, Clear

6650-00-NIB-0020—Flat Top 28 Bifocal, Glass, Clear

6650-00-NIB-0021—Flat Top 35 Bifocal, Glass, Clear

6650-00-NIB-0022—Flat Top 7x28 Trifocal, Glass, Clear

6650-00-NIB-0023—Flat Top 8x35 Trifocal, Glass, Clear

6650-00-NIB-0024—Progressives (VIP, Adaptar, Freedom), Glass, Clear

6650-00-NIB-0025—Executive Bifocal, Glass, Clear

6650-00-NIB-0026—Single Vision, Polycarbonate, Clear

6650-00-NIB-0027—Flat Top 28 Bifocal, Polycarbonate, Clear

6650-00-NIB-0028—Flat Top 35 Bifocal, Polycarbonate, Clear

6650-00-NIB-0029—Flat Top 7x28 Trifocal, Polycarbonate, Clear

6650-00-NIB-0030—Flat Top 8x35 Trifocal, Polycarbonate, Clear

6650-00-NIB-0031—Progressives (VIP, Adaptar, Freedom, Image), Polycarbonate

Lenses, Only

6650-00-NIB-0032—Single Vision, Plastic, Clear

6650-00-NIB-0033—Flat Top 28, Bifocal, Plastic, Clear

6650-00-NIB-0034—Flat Top 35, Bifocal, Plastic, Clear

6650-00-NIB-0035—Round 25 and 28 Bifocal, Plastic, Clear

6650-00-NIB-0036—Flat Top 7x28 Trifocal, Plastic, Clear

6650-00-NIB-0037—Flat Top 8x35 Trifocal, Plastic, Clear

6650-00-NIB-0038—Progressives (VIP, Adaptar, Freedom, Image), Plastic

6650-00-NIB-0039—SV aspheric lenticular, Plastic, Clear

6650-00-NIB-0040—FT or round aspheric lenticular, Plastic, Clear

6650-00-NIB-0041—Executive Bifocal, Plastic, Clear

6650-00-NIB-0042—Single Vision, Glass, Clear

6650-00-NIB-0043—Flat Top 28 Bifocal, Glass, Clear

6650-00-NIB-0044—Flat Top 35 Bifocal, Glass, Clear

6650-00-NIB-0045—Flat Top 7 x 28 Trifocal, Glass, Clear

6650-00-NIB-0046—Flat Top 8 x 35 Trifocal, Glass, Clear

6650-00-NIB-0047—Progressives (VIP, Adaptar, Freedom), Glass, Clear

6650-00-NIB-0048—Executive Bifocal, Glass, Clear

6650-00-NIB-0049—Single Vision, Polycarbonate, Clear

6650-00-NIB-0050—Flat Top 28 Bifocal, Polycarbonate, Clear

6650-00-NIB-0051—Flat Top 35 Bifocal, Polycarbonate, Clear

6650-00-NIB-0052—Flat Top 7 x 28 Trifocal, Polycarbonate, Clear

6650-00-NIB-0053—Flat Top 8 x 35 Trifocal, Polycarbonate, Clear

6650-00-NIB-0054—Progressives (VIP, Adaptar, Freedom, Image), Polycarbonate

Tints and Coatings

6650-00-NIB-0055—Transition, Plastic, CR-39

6650-00-NIB-0056—Photochromatic/Transition, (Polycarbonate Material)

6650-00-NIB-0057—Photogrey (glass only)

6650-00-NIB-0058—High Index transition (CR 39)

6650-00-NIB-0059—Anti-reflective coating (CR 39 and polycarbonate)

6650-00-NIB-0060—Ultraviolet coating (CR 39)

6650-00-NIB-0061—Polarized lenses (CR 39)

Lens Add-Ons

6650-00-NIB-0062—Slab-off (polycarbonate, CR 39: trifocal and bifocal)

6650-00-NIB-0063—High Index (CR 39)

6650-00-NIB-0064—Prism (up to 6 diopters no charge) > 6 diopters/pe

6650-00-NIB-0065—Diopter + or − 9.0 and above

6650-00-NIB-0066—Lenses, oversize eye, greater than 58, excluding pro

6650-00-NIB-0067—Hyper 3 drop SV, jultifocal (CR 39)

6650-00-NIB-0068—Add powers over 4.0

6650-00-NIB-0069—Plastic or Metal

NPA: Winston-Salem Industries for the Blind, Winston-Salem, NC

Contracting Activity: Veterans Integrated Service Network (VISN) 18, Mesa, AZ.

Coverage: C-list for the requirements of VISN 18 as aggregated by the VISN 18 Contracting Activity, Mesa, AZ.

Services:

Service Type/Location: Package Reclamation, DLA-Wide, Defense Distribution Center, Tinker AFB, Oklahoma City, OK.

NPA: NewView Oklahoma, Inc., Oklahoma City, OK.

Contracting Activity: Defense Logistics Agency, DLA Distribution, New Cumberland, PA.

The package reclamation service that is the subject of this Federal Register Notice is being added for performance at distribution centers that are organic to DLA Distribution. In 2010, the Defense Distribution Center (DDC) was renamed DLA Distribution. A process was also initiated, by which the remaining depots under its control, would undergo a similar name change. Eventually, each distribution center that was part of the former DDC will be renamed as DLA Distribution, plus its location name. The missions of DLA Distribution and its various depots remained essentially unchanged. DLA Distribution, Office of Procurement, 2001 Mission Drive, New Cumberland, PA 17070 is the contracting activity of record for the IDIQ contract under which the Package Reclamation Service will be offered. The first Distribution Center that will take advantage of the Package Reclamation Service, if it is approved for addition to the Procurement List, is at Tinker Air Force Base, Oklahoma.

Service Type/Location: Peel & Stick Program Support, U.S. Coast Guard-Wide, 1750 Claiborne Avenue, Shreveport, LA.

NPA: Louisiana Association for the Blind, Shreveport, LA.

Contracting Activity: Dept. of Homeland Security, U.S. Coast Guard, Lockport, LA.

Deletion

Regulatory Flexibility Act Certification

I certify that the following action will not have a significant impact on a substantial number of small entities. The major factors considered for this certification were:

1. If approved, the action will not result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

End of Certification

The following product is proposed for deletion from the Procurement List:

Product

NSN: 2090-00-372-6064—Repair Kit, Standard

NPA: Mid-Valley Rehabilitation, Inc., McMinnville, OR.

Contracting Activity: Defense Logistics Agency Land and Maritime, Columbus, OH.

Barry S. Lineback,
Director, Business Operations.

[FR Doc. 2011-18515 Filed 7-21-11; 8:45 am]

BILLING CODE 6353-01-P